ENVIRONMENTAL PROTECTION AGENCY

[FRL-9909-14-Region-6]

Notice of Decision To Issue Clean Air Act Greenhouse Gas PSD Permit for the La Paloma Energy Center

Correction

In notice document 2014-07812 appearing on page 19329 in the issue of April 8, 2014, make the following correction:

On page 19329, in the third column, in the 10th line, “[insert date of publication]” should read “April 8, 2014”.

[FR Doc. C1-2014-07812 Filed 4-10-14; 8:45 am]

BILLING CODE 1505-01-D